DEPARTMENT OF ENERGY

Federal Energy Regulatory Commission

[Docket No. RP01-130-000]

Southern Natural Gas Company, Notice of Settlement Compliance Filing

December 5, 2000.

Take notice that on November 30, 2000, Southern Natural Gas Company (Southern) filed to continue the existing GSR surcharge of $.0004/Dth to be effective January 1, 2001 and to report an overcollection of GSR revenues of approximately $120,000 during 2000 which will be refundable on March 31, 2001.

Southern asserts that the purpose of this filing is to comply with the commission's Order issued on September 29, 1995, which approved the Stipulation and Agreement (Settlement) filed by Southern on March 15, 1995 in Docket Nos. RP89-224-012, et al. In accordance with Article VII of the Settlement, Southern has made this filing to recover a GSR volumetric surcharge based on an estimate of its 2001GSR costs. Southern also indicates, based on estimated data, a GSR surcharge refund for GSR overcollections during 2000 will be made on March 31, 2001 in the amount of approximately $120,000.

Southern states that copies of the filing were served upon Southern's customers, intervening parties and interested state commissions.

Any person desiring to be heard or to protest said filing should file a motion to intervene or a protest with the Federal Energy Regulatory Commission, 888 First Street, NE., Washington, DC 20426, in accordance with Sections 385.214 or 385.211 of the commission's Rules and Regulations. All such motions or protests must be filed on or before December 12, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31436 Filed 12-8-00; 8:45 am]

BILLING CODE 6717-01-M